INTERNATIONAL TRADE COMMISSION

[Investigation Nos. 731-TA-1071 and 1072 (Final)]

Magnesium From China and Russia

Determinations

On the basis of the record ¹ developed in the subject investigations, the United States International Trade Commission (Commission) determines, pursuant to section 735(b) of the Tariff Act of 1930 (19 U.S.C. 1673d(b)) (the Act), that an industry in the United States is materially injured by reason of imports from China and Russia of magnesium,² provided for in subheadings 8104.11.00, 8104.19.00, 8104.30.00, and 8104.90.00 of the Harmonized Tariff Schedule of the United States, that have been found by the Department of Commerce (Commerce) to be sold in the United States at less than fair value (LTFV). With regard to U.S. imports from China, the Commission also makes a negative finding with regard to critical circumstances.

¹ The record is defined in sec. 207.2(f) of the Commission's Rules of Practice and Procedure (19 CFR 207.2(f)).

² Commissioners Marcia E. Miller and Jennifer A. Hillman voted with the majority, except that they found granular magnesium to be a separate like product and found subject imports of granular magnesium from Russia to be negligible.

Background

The Commission instituted these investigations effective February 27, 2004, following receipt of a petition filed with the Commission and Commerce by US Magnesium Corp. (“US Magnesium”), Salt Lake City, UT; the United Steelworkers of America, Local 8319, Salt Lake City, UT; and the Glass, Molders, Pottery, Plastics & Allied Workers International, Local 374, Long Beach, CA. The final phase of these investigations was scheduled by the Commission following notification of preliminary determinations by Commerce that imports of magnesium from China and Russia were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of October 21, 2004 (69 FR 61860). The hearing was held in Washington, DC, on February 23, 2005, and all persons who requested the opportunity were permitted to appear in person or by counsel.

The Commission transmitted its determinations in these investigations to the Secretary of Commerce on April 11, 2005. The views of the Commission are contained in USITC Publication 3763 (April 2005), entitled Magnesium from China and Russia: Investigation Nos. 731-TA-1071 and 1072 (Final).

Issued: April 11, 2005.
By order of the Commission.
Marilyn R. Abbott,
Secretary to the Commission.

[FR Doc. 05-7600 Filed 4-14-05; 8:45 am]

BILLING CODE 7020-02-P